Title 3—

The President

Proclamation 7907 of June 1, 2005

Black Music Month, 2005

By the President of the United States of America

A Proclamation

During Black Music Month, we pay tribute to a rich musical tradition and honor the many contributions African-American musicians, singers, and composers have made to the culture of our Nation and to the world. This powerful, moving, and soulful music speaks to every heart, lifting us in times of sorrow and helping us celebrate in times of joy.

Black music's origins are found in the work songs and spirituals that bore witness to the cruelty of bondage and the strength of faith. In the strains of those songs, we hear the voice of hope in the face of injustice. From those roots, black music has grown into a diverse collection of styles, and it continues to evolve today. Black music captures a part of the American spirit and continues to have a profound impact on our country.

This month is an opportunity to reflect upon the achievements of African-American artists and to look forward to the future. We remember Robert Johnson, Bessie Smith, Louis Armstrong, Nat King Cole, Ray Charles, Ella Fitzgerald, Billie Holiday, and countless others for their love of music and their pioneering and passionate spirit. We celebrate today's musicians who continue to build upon the rich and vital heritage of black music.

NOW, THEREFORE, I, GEORGE W. BUSH, President of the United States of America, by virtue of the authority vested in me by the Constitution and laws of the United States, do hereby proclaim June 2005 as Black Music Month. I encourage all Americans to learn more about the history of black music and to enjoy the great contributions of African-American musicians.

IN WITNESS WHEREOF, I have hereunto set my hand this first day of June, in the year of our Lord two thousand five, and of the Independence of the United States of America the two hundred and twenty-ninth.

B

[FR Doc. 05-11343

Filed 6-3-05; 9:46 am]

Billing code 3195-01-P